ENVIRONMENTAL PROTECTION AGENCY

[EPA-HQ-OPP-2008-0046; FRL-8390-4]

Notice of Receipt of Several Pesticide Petitions Filed for Residues of Pesticide Chemicals in or on Various Commodities

AGENCY: Environmental Protection Agency (EPA).

ACTION: Notice.

SUMMARY: This notice announces the Agency’s receipt of several initial filings of pesticide petitions proposing the establishment or modification of regulations for residues of pesticide chemicals in or on various commodities.

DATES: Comments must be received on or before January 2, 2009.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at: Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 180 for residues of pesticide chemicals in or on various food commodities. EPA has determined that the pesticide petitions described in this document contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 8E7425. (EPA-HQ-OPP-2008-0768). Interregional Research Project No. 4 (IR-4), 500 College Road East, Suite 201 W, Princeton, NJ 08540 and Makhteshim-Agan of North America, Inc., 4515 Falls of Neuse Road, Raleigh, NC 27609, proposes to establish a tolerance for residues of the insecticide novaluron, N-[[[3-chloro-4-[1,1,2-trifluoro-2-(trifluoromethoxy)ethoxy]phenyl]amino]carbonyl]-2,6-difluorobenzamide, in or on bushberry, subgroup 13-07B at 7 parts per million (ppm). Makhteshim-Agan of North America, Inc., is the manufacturer and basic registrant of novaluron. Makhteshim-Agan of North America, Inc., prepared and summarized the following information in support of the subject pesticide petition for novaluron. An adequate analytical method, gas chromatography/electron capture detector (GC/ECD), as published in the Federal Register of April 5, 2006 (71 FR 17009 )(FRL-7756-8) is available for enforcing tolerances of novaluron residues in or on stone fruit, bushberries, leafy Brassica and turnip greens. The method verification trial supports a limit of quantitation (LOQ) of 0.05 ppm, and the limit of detection (LOD) is 0.005 ppm for the different matrices. The limit of quantitation (LOQ = 0.05 ppm) was taken as the lowest level validated by this method. Contact: Laura Nollen, (703) 305-7390, nollen.laura@epa.gov.

2. PP 8E7426. (EPA-HQ-OPP-2008-0769). Interregional Research Project No. 4 (IR-4), 500 College Road East, Suite 201 W, Princeton, NJ 08540 and Makhteshim-Agan of North America, Inc., 4515 Falls of Neuse Road, Raleigh, NC 27609, proposes to establish a tolerance for residues of the insecticide novaluron, N-[[[3-chloro-4-[1,1,2-trifluoro-2-(trifluoromethoxy)ethoxy]phenyl]amino]carbonyl]-2,6-difluorobenzamide, in or on fruit, stone, group 12 at 8 parts per million (ppm); Brassica, leafy greens, subgroup 5B at 25 ppm; and turnip greens at 25 ppm. Makhteshim-Agan of North America, Inc., is the manufacturer and basic registrant of novaluron. Makhteshim-Agan of North America, Inc., prepared and summarized the following information in support of the subject pesticide petition for novaluron. An adequate analytical method, gas chromatography/electron capture detector (GC/ECD), as published in the Federal Register of April 5, 2006 (71 FR 17009) (FRL-7756-8), is available for enforcing tolerances of novaluron residues in or on stone fruit, bushberries, leafy Brassica and turnip greens. The method verification trial supports a limit of quantitation (LOQ) of 0.05 ppm, and the limit of detection (LOD) is 0.005 ppm for the different matrices. The limit of quantitation (LOQ = 0.05 ppm) was taken as the lowest level validated by this method. Contact: Laura Nollen, (703) 305-7390, nollen.laura@epa.gov.

3. PPs 8E7434 and 8E7436. (EPA-HQ-OPP-2008-0773). Interregional Research Project No. 4 (IR-4), 500 College Road East, Suite 201 W, Princeton, NJ 08540, proposes to establish tolerances for residues of the herbicide prometryn, 2,4-bis(isopropylamino)-6-methylthio-s-triazine (CAS Number 7287-19-6) in or on carrot at 0.7 parts per million (ppm); celeriac, roots at 0.05 ppm; celeriac, tops at 0.05 ppm; cilantro, fresh at 4.0 ppm; cilantro, dried at 15 ppm; okra at 0.05 ppm; parsley, leaves at 0.7 ppm (all the preceding in PP 8E7434); and leafy petiole, subgroup 4B at 0.5 ppm in (PP 8E7436). The Pesticide Analytical Manual (PAM) lists a gas chromatography (GC) method for determining residues in or on plants using a microcoulometric sulfur detection system that determines residues of prometryn. No tolerances are needed for prometryn residues in livestock commodities; therefore, no enforcement analytical methods are needed for these animal commodities. Contact: Susan Stanton, (703) 305-5218, stanton.susan@epa.gov.

4. PP 8F7256. (EPA-HQ-OPP-2008-0764). FMC Corporation, 1735 Market Street, Philadelphia, PA 19103, proposes to establish a tolerance for residues of the insecticide carbofuran in or on cotton by products including gin trash at 2.0 parts per million (ppm). A practical analytical methodology for detecting and measuring levels of carbofuran and 3-hydroxy-carbofuran in or on raw agricultural commodities has been submitted. The limit of detection (LOD) for each analyte using this method is 0.01 ppm, and the limit of quantitation (LOQ) is 0.05 ppm. The method is based on sample acid hydrolysis and residue determination using gas chromatography. Contact: John Hebert, (703) 308-7038, hebert.john@epa.gov.

5. PP 8F7409. (EPA-HQ-OPP-2008-0770). E. I. DuPont de Nemours and Company, DuPont Crop Protection, P.O. Box 30, Newark, DE 19714-0030, proposes to establish a tolerance for residues of the insecticide chlorantraniliprole, 3-bromo-N-4-chloro-2-methyl-6-(methylcarbamoyl)phenyl]-1-(3-chloro-2-pyridine-2-yl)-1H-pyrazole-5-carboxamide in or on nut, tree, group 14 at 0.07 parts per million (ppm); almond, hulls at 5 ppm; and pistachio at 0.07 ppm. Since chlorantraniliprole and its metabolic degradates are not of toxicological concern, analytical methods are not applicable. Contact: Kable Davis, (703) 306-0415, davis.kable@epa.gov.

6. PP 8F7413. (EPA-HQ-OPP-2008-0771). Bayer CropScience, P.O. Box 12014, 2 T.W. Alexander Drive, Research Triangle Park, NC 27709, proposes to establish a tolerance for residues of the insecticide clothianidin, (E)-1-(2-chloro-1,3-thiazol-5-ylmethyl)-3-methyl-2-nitroguanidine and its metabolite, TMG, N-(2-chloro-5-thiazolylmethyl)-N-’-methylguanidine, in or on vegetable, root, except sugar beet, subgroup 01B at 0.6 parts per million (ppm); vegetable, tuberous and corm, subgroup 01C at 0.2 ppm; vegetable, bulb, group 03 at 0.2 ppm; vegetables, leafy greens, except brassica, subgroup 04A at 1.1 ppm; vegetable, Brassica, leafy, group 5 at 0.35 ppm; and residues of clothianidin, (E)-1-(2-chloro-1,3-thiazol-5-ylmethyl)-3-methyl-2-nitroguanidine in vegetables, fruiting, group 08 at 0.01 ppm; vegetable, cucurbit, group 09 at 0.01 ppm; grain, cereal, except rice, group 15 at 0.01 ppm, wheat, forage at 0.35 ppm, wheat, hay at 0.07 ppm and wheat, straw at 0.04 ppm. In plants and plant products, the residue of concern, parent clothianidin, can be determined using high performance liquid chromatography (HPLC) with electrospray tandem mass spectrometry (MS/MS) detection. In an extraction efficiency testing, the plant residues method has also demonstrated the ability to extract aged clothianidin residue. Although the plant residues liquid chromatography-tandem mass spectrometry (LC/MS/MS) method is highly suitable for enforcement method, an LC/UV (ultraviolet) method has also been developed which is suitable for enforcement (monitoring) purposes in all relevant matrices. Contact: Kable Davis, (703) 306-0415, davis.kable@epa.gov.

7. PP 8F7414. (EPA-HQ-OPP-2008-0772). Bayer CropScience, P.O. Box 12014, 2 T.W. Alexander Drive, Research Triangle Park, NC 27709, proposes to establish a tolerance for residues of the insecticide imidacloprid, 1-[(6-chloro-3-pyridinyl)methyl]-N-nitro-2-imidazolidinimine and its metabolites containing the 6-chloropyridinyl moiety, all expressed as the parent, in or on vegetable, bulb, group 3 at 2.5 parts per million (ppm). The analytical method is a common moiety method for imidacloprid and its metabolites containing the 6-chloropyridinyl moiety using a permanganate oxidation, silyl derivatization, and capillary gas chromatography/mass spectrometry (GC/MS) selective ion monitoring. This method has successfully passed a petition method validation in EPA labs. There is a confirmatory method specifically for imidacloprid and several metabolites utilizing GC/MS and high performance liquid chromatography/ ultraviolet (HPLC/UV) which has been validated by the EPA as well. Imidacloprid and its metabolites are stable for at least 24 months in the commodities when frozen. Contact: Kable Davis, (703) 306-0415, davis.kable@epa.gov.

8. PP 8F7415. (EPA-HQ-OPP-2008-0772). Bayer CropScience, P.O. Box 12014, 2 T.W. Alexander Drive, Research Triangle Park, NC 27709, proposes to establish a tolerance for residues of the insecticide imidacloprid, 1-[(6-chloro-3-pyridinyl)methyl]-N-nitro-2-imidazolidinimine and its metabolites containing the 6-chloropyridinyl moiety, all expressed as the parent, in or on cereal, grain, group 15 at 0.05 parts per million (ppm). Bayer CropScience is also proposing use of the currently established tolerances for residues of imidacloprid, 1-[(6-chloro-3-pyridinyl)methyl]-N-nitro-2-imidazolidinimine and its metabolites containing the 6-chloropyridinyl moiety, all expressed as the parent, in or on the raw agricultural commodity vegetable, root, except sugar beet, subgroup 01B; vegetable, tuberous and corm, subgroup 01C; vegetable, leafy greens, except Brassica, subgroup 04A; vegetable, Brassica, leafy, group 05; vegetable, fruiting, group 08; and vegetable, cucurbit, group 09 to support the use of imidacloprid as a seed treatment on these crops. All required analytical methods have previously been submitted to the Agency and validated. Therefore, no additional methods are needed. Contact: Kable Davis, (703) 306-0415, davis.kable@epa.gov.

9. PP 8F7417. (EPA-HQ-OPP-2008-0262). EPA has requested a notice of filing identified as a deficiency in the submitted petition from Bayer CropScience, P.O. Box 12014, 2 T.W. Alexander Drive, Research Triangle Park, NC 27709, to support the 30-day plant back interval for soybeans planted after a potato seed piece treatment with clothianidin at a rate of 420 g ai/ha. Soybean rotational residue data showed no residues greater than the level of quantitation (LOQ) of 0.01 parts per million (ppm) for soybeans planted 30 days after treatment of bare soil with Poncho 600 FS at a rate of 420 g ai/ha. This supports a 30-day plant back interval for soybeans after potato seed piece treatment at the above rate. No rotational crop tolerances are required. Therefore, no further data is required in this notice of filing. Contact: Kable Davis, (703) 306-0415, davis.kable@epa.gov.

10. PP 8F7437. (EPA-HQ-OPP-2008-0704). Arysta LifeScience North America Corporation, 15401 Weston Parkway, Suite 150, Cary, NC 27513, proposes to establish a tolerance for residues of the fungicide fluoxastrobin (1E)-[2-[[6-(2-chlorophenoxy)-5-fluoro-4-pyrimydinyl]oxy]phenyl](5,6-dihydro-1,4,2-dioxazin-3-yl)methanone O-methyloxime, and its Z isomer, (1Z)-[2-[[6-(2-chlorophenoxy)-5-fluoro-4-pyrimydinyl]oxy]phenyl](5,6-dihydro-1,4,2-dioxazin-3-yl)methanone O-methyloxime in or on corn, field, grain at 0.02 parts per million (ppm); corn, field, aspirated grain fractions at 0.50 ppm; corn, field, forage at 3.0 ppm; corn, field, fodder/stover at 4.5 ppm; soybean, seed at 0.05 ppm; soybean, aspirated grain fractions at 0.40 ppm; soybean, forage at 9.0 ppm; soybean, hay at 1.2 ppm; and soybean, hulls at 0.40 ppm. Adequate analytical methodology using high performance liquid chromatography/tandem mass spectrometry (HPLC/MS/MS) detection is available for enforcement purposes. Contact: John Bazuin, (703) 305-7381, bazuin.john@epa.gov.

11. PP 8F7438. (EPA-HQ-OPP-2008-0781). Valent U.S.A. Corporation, 1600 Riviera Avenue, Suite 200, Walnut Creek, CA 94596, proposes to establish a tolerance for residues of the herbicide flumioxazin, 2-[7-fluoro-3,4-dihydro-3-oxo-4-(2-propynyl)-2H-1,4-benzoxazin-6-yl]-4,5,6,7-tetrahydro-1H-isoindole-1,3(2H)-dione and its metabolites APF (3-oxo-4-prop-2-ynyl-6-amino-7-fluoro-3,4-dihydro-1,4-benzoxazin) and 482-HA (N-(7-fluoro-3,4-dihydro-3-oxo-4-prop-2-ynyl-2H-1,4-benzoxazin-6-yl)cyclohex-1-ene-1-carboxamide-2-carboxylic acid) in or on freshwater fish at 1.5 parts per million (ppm). An analytical method for detecting flumioxazin and its metabolites in fish tissue has been submitted with this petition. The level of quantitation (LOQ) of flumioxazin and its metabolites in the analytical method for fish tissue is 0.01 ppm, which will allow monitoring for residues at the levels proposed for the tolerance. Contact: James M. Stone, (703) 305-7391, stone.james@epa.gov.

12. PP 8F7444. (EPA-HQ-OPP-2008-0262). Bayer CropScience, P.O. Box 12014, 2 T.W. Alexander Drive, Research Triangle Park, NC 27709, proposes to establish a tolerance for residues of the insecticide spiromesifen; butanoic acid, 3,3-dimethyl-, 2-oxo-3-(2,4,6-trimethylphenyl)-1-oxaspiro[4.4]non-3-en-4-yl ester, and its enol metabolite; 4-hydroxy-3-(2,4,6-trimethylphenyl)-1-oxaspiro[4.4]non-3-en-2-one, calculated as parent compound equivalents in or on tomato, paste at 0.8 parts per million (ppm). Adequate analytical methodology using liquid chromatography/ tandem mass spectrometry (LC/MS/MS) detection is available for enforcement purposes. Contact: Kable Davis, (703) 306-0415, davis.kable@epa.gov.

Amendment to Existing Tolerances

1. PP 8E7426. (EPA-HQ-OPP-2008-0769). Interregional Research Project No. 4 (IR&ndash;4), 500 College Road East, Suite 201 W, Princeton, NJ 08540 and Makhteshim&ndash;Agan of North America, Inc., 4515 Falls of Neuse Road, Raleigh, NC 27609, proposes to amend the tolerance in 40 CFR 180.598 by increasing the tolerance for residues of the insecticide novaluron, N-[[[3-chloro-4-[1,1,2-trifluoro-2-(trifluoromethoxy)ethoxy] phenyl]amino]carbonyl]-2,6-difluorobenzamide in or on egg from 0.05 parts per million (ppm) to 0.07 ppm. Makhteshim-Agan of North America, Inc., is the manufacturer and basic registrant of novaluron. Makhteshim-Agan of North America, Inc., prepared and summarized the following information in support of the subject pesticide petition for novaluron. An adequate analytical method, gas chromatography/electron capture detector (GC/ECD), as published in the Federal Register of April 5, 2006 (71 FR 17009) (FRL-7756-8), is available for enforcing tolerances of novaluron residues in or on stone fruit, bushberries, leafy Brassica and turnip greens. The method verification trial supports a limit of quantitation (LOQ) of 0.05 ppm, and the limit of detection (LOD) is 0.005 ppm for the different matrices. The limit of quantitation (LOQ = 0.05 ppm) was taken as the lowest level validated by this method. Contact: Laura Nollen, (703) 305-7390, nollen.laura@epa.gov.

2. PP 7E7428. (EPA-HQ-OPP-2005-0097). Interregional Research Project No. 4 (IR-4), 500 College Road East, Suite 201 W, Princeton, NJ 08540, proposes to amend the tolerance in 40 CFR 180.474 by raising the existing tolerance for residues of the fungicide tebuconazole (alpha-[2-(4-chlorophenyl)-ethyl]-alpha-(1,1-dimethylethyl)-1H-1,2,4-triazole-1-ethanol) tebuconazole (alpha-[2-(4-chlorophenyl)-ethyl]-alpha-(1,1-dimethylethyl)-1H-1,2,4-triazole-1-ethanol) in or on cherry from 4.0 to 5.0 parts per million (ppm). An enforcement method for plant commodities has been validated on various commodities. It has undergone successful EPA validation and has been submitted for inclusion in the (Pesticide Analytical Manual II (PAM II). The animal method has also been approved as an adequate enforcement method. Contact: Laura Nollen, (703) 305-7390, nollen.laura@epa.gov.

New Exemptions from an Inert Tolerance

1. PP 5E7003. (EPA-HQ-OPP-2005-0310). Stepan Company, 951 Bankhead Hwy., Winder, GA 30680, proposes to establish an exemption from the requirement of a tolerance in 40 CFR 180.920 for residues of the Alkyl (C10-C18) Dimethyl Amine Oxides (ADAOs) pre-harvest (including CAS Numbers 1643-20-5, 2571-88-2, 2605-79-0, 3332-27-2, 61788-90-7, 68955-55-5, 70592-80-2, 7128-91-8, 85408-48-6, and 85408-49-7) when used as a pesticide inert ingredient in pesticide formulations in or on all raw agricultural commodities. Because this petition is a request for an exemption from the requirement of a tolerance, no analytical method is required. Contact: Karen Samek, (703) 347-8825, samek.karen@epa.gov.

2. PP 8E7336. (EPA-HQ-OPP-2008-0666). Goldschmidt Chemical Corporation, Degussa, 710 South Sixth Avenue, Hopewell, VA 23860, proposes to establish an exemption from the requirement of a tolerance in 40 CFR 180.960 for residues of Castor oil, ethoxylated, oleate, minimum average molecular weight (in amu) 2,000 (CAS No. 220037-02-05) when used as a pesticide inert ingredient in pesticide formulations in or on all raw agricultural commodities. Because this petition is a request for an exemption from the requirement of a tolerance, no analytical method is required. Contact: Deirdre Sunderland, (703) 603-0851, sunderland.deirdre@epa.gov.

3. PP 8E7374. (EPA-HQ-OPP-2008-0710). The Joint Inerts Task Force, Cluster Support Team 19, EPA Company Number 84949, c/o CropLife America, 1156 15th Street, NW., Suite 400, Washington, DC 20005, proposes to establish an exemption from the requirement of a tolerance in 40 CFR 180.910 and 180.930 for residues of the Ethylene oxide adducts of 2,4,7,9-tetramethyl-5-decynediol, the ethylene oxide content averages 3.5, 10, or 30 moles (CAS No. 9014-85-1) when used as a pesticide inert ingredient in pesticide formulations in or on all raw agricultural commodities. Because this petition is a request for an exemption from the requirement of a tolerance, no analytical method is required. Contact: Karen Samek, (703) 347-8825, samek.karen@epa.gov.

4. PP 8E7423. (EPA-HQ-OPP-2008-0739). The Joint Inerts Task Force, Cluster Support Team 13, EPA Company Number 84949, c/o CropLife America, 1156 15th Street, NW., Suite 400, Washington, DC 20005, proposes to establish an exemption from the requirement of a tolerance in 40 CFR 180.920 for residues of Sodium 1,4-dialkyl sulfosuccinates pre-harvest including: Sodium 1,4-dihexyl sulfosuccinate (Butanedioic acid, sulfo, 1,4-bis dihexyl ester, sodium salt) (CAS No. 3006-15-3); Sodium 1,4-diisobutyl sulfosuccinate (Butanedioic acid, sulfo, 1,4-bis diisobutyl ester sodium salt) (CAS No. 127-39-9); and Sodium 1,4-dipentyl sulfosuccinate (Butanedioic acid, sulfo, 1,4-bis dipentyl ester sodium salt) (CAS No. 922-80-5) when used as a pesticide inert ingredient in pesticide formulations in or on all raw agricultural commodities. Because this petition is a request for an exemption from the requirement of a tolerance, no analytical method is required. Contact: Karen Samek, (703) 347-8825, samek.karen@epa.gov.

List of Subjects

Environmental protection, Agricultural commodities, Feed additives, Food additives, Pesticides and pests, Reporting and recordkeeping requirements.

Dated: November 25, 2008.
Lois Rossi,
Director, Registration Division, Office of Pesticide Programs.

[FR Doc. E8-28666 Filed 12-2-08; 8:45 am]

BILLING CODE 6560-50-S